DEPARTMENT OF STATE

[Public Notice #3277]

Shipping Coordinating Committee Maritime Safety Committee; Notice of Meeting

The Shipping Coordinating Committee will conduct an open meeting at 9:30 a.m. on Thursday, May 11, 2000, in Room 2415, at U.S. Coast Guard Headquarters, 2100 2nd Street, SW, Washington, DC. The purpose of this meeting will be to finalize preparations for the 72nd Session of the Maritime Safety Committee, and associated bodies of the International Maritime Organization (IMO), which is scheduled for May 17-26, 2000, at IMO Headquarters in London. At this meeting, papers received and the draft U.S. positions will be discussed.

Among other things, the items of particular interest are:

a. Bulk carrier safety;

b. Role of the human element;

c. Formal safety assessment;

d. Piracy and armed robbery against ships;

e. Reports of seven subcommittees—Training and watchkeeping; Flag State implementation; Bulk liquids and gases; Radiocommunications and search and rescue; Safety of navigation; Dangerous goods, solid cargoes and containers; Fire protection; and, Ship design and equipment;

Members of the public may attend this meeting up to the seating capacity of the room. Interested persons may seek information by writing to Mr. Joseph J. Angelo, Commandant (G-MS), U.S. Coast Guard, 2100 2nd Street, SW, Room 1218, Washington, DC 20593-0001 or by calling (202) 267-2970.

Dated: April 6, 2000
Stephen M. Miller,
Executive Secretary, Shipping Coordinating Committee, U.S. Department of State.

[FR Doc. 00-9729 Filed 4-18-00; 8:45 am]

BILLING CODE 4710-17-U